DEPARTMENT OF THE INTERIOR

Fish and Wildlife Service

[FWS-R8-R-2015-N244; FXRS12610800000-167-FF08R00000]

Guadalupe-Nipomo Dunes National Wildlife Refuge, San Luis Obispo County, CA: Draft Comprehensive Conservation Plan/Environmental Assessment

AGENCY: Fish and Wildlife Service, Interior.

ACTION: Notice of availability; request for comments.

SUMMARY: We, the U.S. Fish and Wildlife Service (Service), announce the availability of a Draft Comprehensive Conservation Plan (CCP) and Environmental Assessment (EA) for the Guadalupe-Nipomo Dunes National Wildlife Refuge for review and comment. The CCP/EA, prepared under the National Wildlife Refuge Improvement Act of 1997, and in accordance with the National Environmental Policy Act of 1969, describes how the Service proposes to manage the refuge for the next 15 years. Draft compatibility determinations for uses proposed under one or more of the alternatives are also available for review and public comment.

DATES: To ensure consideration, we must receive your written comments by April 18, 2016.

ADDRESSES: Send your comments or requests for more information by any of the following methods.

Email: fw8plancomments@fws.gov. Include “GND CCP” in the subject line of the message.

Fax: Attn: GND CCP, (916) 414-6497.

U.S. Mail: Pacific Southwest Region, Refuge Planning, U.S. Fish and Wildlife Service, 2800 Cottage Way, W-1832, Sacramento, CA 95825.

FOR FURTHER INFORMATION CONTACT: Refuge Planner at (916) 414-6500 or fw8plancomments@fws.gov. Further information may also be found at http://www.fws.gov/refuge/Guadalupe-Nipomo_Dunes/what_we_do/planning.html.

SUPPLEMENTARY INFORMATION:

Introduction

The National Wildlife Refuge System Improvement Act of 1997 (16 U.S.C. 668dd-668ee), which amended the National Wildlife Refuge System Administration Act of 1966, requires the Service to develop a CCP for each national wildlife refuge. The purpose in developing a CCP is to provide refuge managers with a 15-year plan for achieving refuge purposes and contributing toward the mission of the National Wildlife Refuge System, consistent with sound principles of fish and wildlife management, conservation, legal mandates, and our policies. In addition to outlining broad management direction on conserving wildlife and their habitats, CCPs also evaluate the potential for providing wildlife-dependent recreational opportunities to the public, including opportunities for hunting, fishing, wildlife observation and photography, and environmental education and interpretation. We will review and update the CCP at least every 15 years in accordance with the Improvement Act.

We initiated the CCP/EA for Guadalupe-Nipomo Dunes in December 2013. We hosted two public meetings, one in Grover Beach on December 11, 2013, and one in Guadalupe on December 12, 2013. Our public outreach included a Federal Register notice of intent, published on December 6, 2013 (78 FR 73557), two planning updates, two scoping meetings, and a CCP Web page, which can be found at http://www.fws.gov/refuge/Guadalupe-Nipomo_Dunes/what_we_do/planning.html. The scoping comment period ended on February 4, 2014. The refuge received several comments at the scoping meetings and two comments via email.

Background

Guadalupe-Nipomo Dunes National Wildlife Refuge was established in 2000 under the Endangered Species Act of 1973 (16 U.S.C. 1531) to preserve and conserve Central California coastal dune and associated wetlands habitats and assist in the recovery of native plants and animals that are federally listed as threatened or endangered. Refuge goals include (1) protecting restoring and enhancing native habitat to aid in the recovery of federally listed and special status species and critical habitat; (2) protecting and restoring coastal dune and other natural communities to support the diverse species of the central California coast; and (3) providing safe and high-quality opportunities for compatible wildlife-dependent educational and recreational activities to foster public appreciation of the natural heritage of the region. The 2,553-acre Refuge consists of one parcel that is bordered on its western edge by the Pacific Ocean, agricultural lands to the east, Oso Flaco Lake Natural Area to the north, and Rancho Guadalupe Dunes County Park to the south.

Alternatives

The Draft CCP/EA identifies and evaluates three alternatives for managing the refuge for the next 15 years. Each alternative proposes a different level of management and public use. The Final CCP will identify the proposed action, which may look very similar to one of the three alternatives, or could include a combination of components from two or more of the alternatives presented. This decision will be based on the analysis presented in the Draft CCP/EA, comments received from other agencies, Tribal governments, nongovernmental organizations, and/or individuals during the public comment period, and forecasted budgets for the National Wildlife Refuge System.

Under Alternative A (no action alternative), the current management actions, including habitat management, wildlife-dependent recreation opportunities, and environmental education, would be continued at the refuge. Habitat and wildlife management activities would continue to be focused on conservation of listed species, invasive weed control, barrier fencing, planting native vegetation, and baseline surveys. Limited guided tours and self-guided access to support wildlife observation and photography would also continue under Alternative A. Volunteers would continue to be an important component of the Citizen Science research program, where they would help with vegetation surveys and manual weed removal. The refuge would continue to be closed to the public during the western snowy plover breeding season.

Alternative B proposes a moderate increase in wildlife and habitat management over Alternative A, as well as an incremental increase in visitor services and environmental education, including opening the refuge year round to support these uses. Outreach and education during the plover breeding season would be conducted, and a loop trail would be constructed to direct the public away from plover nesting habitat. A draft feral swine control and monitoring plan has been prepared as an appendix to the draft CCP/EA and two future step-down plans (i.e., Integrated Pest Management Plan, Predator Management Plan) are proposed for development following the completion of the Final CCP. An invasive plant early detection and rapid response program to address the introduction of new invasive weeds on the refuge would also be developed. This alternative also proposes the future establishment of a visitor contact station or office at or near the refuge.

Alternative C, which was developed to take into consideration the forecasted decline in budgets for the National Wildlife Refuge System, proposes to reduce or eliminate many of the current management activities occurring on the refuge, as well as to close the refuge to all public access. Under Alternative C, the Service's management actions would be limited to the minimum necessary to meet statutory responsibilities under the Endangered Species Act of 1973 and National Wildlife Refuge System Improvement Act of 1997.

Public Meetings

The locations, dates, and times of public meetings will be listed in a planning update distributed to the project mailing list and posted on the refuge planning Web site, at http://www.fws.gov/refuge/Guadalupe-Nipomo_Dunes/what_we_do/planning.html.

Review and Comment

Copies of the Draft CCP/EA may be obtained by writing to the refuge planner (see ADDRESSES). Copies of the Draft CCP/EA may be viewed at the same address and the following local libraries; Guadalupe Branch of the Santa Maria Public Library, 4719 W. Main Street, Guadalupe, CA 93434; and the Santa Maria Public Library (Main Library), 421 S. McClelland Street, Santa Maria, California 93454. The Draft CCP/EA will also be available for viewing and downloading online, at http://www.fws.gov/refuge/Guadalupe-Nipomo_Dunes/what_we_do/planning.html.

Comments on the Draft CCP/EA should be addressed to the refuge planner (see ADDRESSES).

At the end of the review and comment period for the Draft CCP/EA, comments will be analyzed by the Service and addressed in the Final CCP/EA. Before including your address, phone number, email address, or other personal identifying information in your comment, you should be aware that your entire comment—including your personal identifying information—may be made publicly available at any time. While you can ask us in your comment to withhold your personal identifying information from public review, we cannot guarantee that we will be able to do so.

Dated: February 1, 2016.
Alexandra Pitts,
Acting Regional Director, Pacific Southwest Region, Sacramento, California.

[FR Doc. 2016-04571 Filed 2-29-16; 11:15 am]

BILLING CODE 4310-15-P